ENVIRONMENTAL PROTECTION AGENCY

[ER-FRL-6251-9]

Environmental Impact Statements and Regulations; Availability of EPA

Comments Availability of EPA comments prepared February 21, 2000 through February 25, 2000 pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated April 09, 1999 (63 FR 17856).

Draft EISs

ERP No. D-COE-F39039-00 Rating EO2, John T. Myers and Greenup Lock Improvements, To Alleviate Commerical Navigation Traffic Congestion, Ohio River Mainstem Systems Study, (ORMSS), Interim Feasibility Report, Indiana, Kentucky and Ohio.

Summary: EPA expressed environmental objections based on issues with how the project purpose and need was formulated, the apparent phased approach to NEPA compliance, the lack of cumulative impact analysis, inadequate mitigation and the need for additional analysis of the sediment quality.

ERP No. D-SFW-L65334-WA Rating LO, Simpson Washington Timberlands Forest Management and Timber Harvesting Project, Proposed Issuing of a Multiple Species Incidental Take Permit, Mason, Thurston and Gray Harbor Counties, WA.

Summary: EPA had no objections to the proposed action.

Final EISs

ERP No. F-FRC-E03008-00 Florida Gas Transmission Phase IV Expansion Project (Docket No. CP99-94-000), To Deliver Natural Gas to Electric Generator, FL and MS.

Summary: EPA expressed concerns over the proposed conversion of forested wetlands to herbaceous wetlands and other impacts associated with pipeline placement, including induced growth associated with the project. EPA also expressed concerns over the lack of information regarding potential environmental justice issues.

ERP No. RF-OSM-A01102-00 Valid Existing Rights—Proposed Revisions to the Permanent Program Regulations Implementing Section 522(E) of the Surface Mining Control and Reclamation Act of 1977 and Proposed Rulemaking Clarifying the Applicability of Section 522(E) to Subsidence from Underground Mining.

Summary: The final EIS and rule have adequately addressed EPA's concerns on the air quality analysis, impacts to water quality and environmental justice.

Regulations

ERP No. R-AFS-A65166-00 National Forest Service System Land and Resource Management Planning: Proposed Rule 36 CFR Parts 217 and 219.

Summary: EPA was pleased to see that the Forest Service used the recommendations given by the Committee of Scientists as a corner stone of the planning process, especially ecological sustainability, the principles of ecosystem management and requirements for implementation, monitoring and evaluation. EPA also believes that the proposed rule attempts to simplify planning process; reduce burdensome and costly procedural requirements and strengthen relationships with the public, States, Tribes and other government agencies. EPA requests that the final rule supply additional information on issues related to implementation of pre-decisional appeals, monitoring, terms and definitions sustainability and species viability.

Dated: March 6, 2000.
B. Katherine Biggs,
Associate Director, NEPA Compliance Division, Office of Federal Activities.

[FR Doc. 00-5929 Filed 3-9-00; 8:45 am]

BILLING CODE 6560-50-U